INTERNATIONAL TRADE COMMISSION

[Inv. No. 337-TA-564]

Enforcement Proceeding: In the Matter of: Certain Voltage Regulators, Components Thereof and Products Containing Same; Notice of Final Determination

AGENCY: U.S. International Trade Commission.

ACTION: Notice.

SUMMARY: The United States International Trade Commission hereby provides notice that it has made a final determination in the above-captioned proceeding.

FOR FURTHER INFORMATION CONTACT: Paul M. Bartkowski, Office of the General Counsel, U.S. International Trade Commission, 500 E Street, SW., Washington, DC 20436, telephone (202) 708-5432. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted the investigation underlying this enforcement proceeding on March 22, 2006, based on a complaint filed by Linear Technology Corporation (“Linear”) of Milpitas, California. 71 FR 14545. The complaint, as supplemented, alleged violations of section 337 of the Tariff Act of 1930 (19 U.S.C. 1337) in the importation into the United States, the sale for importation, and the sale within the United States after importation of certain voltage regulators, components thereof and products containing the same, by reason of infringement of certain claims of United States Patent No. 6,411,531 and of United States Patent No. 6,580,258 (“the '258 patent”). The complaint named Advanced Analogic Technologies, Inc. (“AATI”) of Sunnyvale, California as the sole respondent. After Commission review of the administrative law judge's (“ALJ”) final ID, the Commission determined that there was a violation of section 337 by AATI with respect to certain asserted claims of the '258 patent and issued a limited exclusion order (“LEO”) consistent with its findings of violation. Subsequently, based on an enforcement complaint filed by Linear, the Commission instituted an enforcement proceeding by notice in the Federal Register on October 10, 2008.

On March 18, 2010, the ALJ issued the subject ID, finding that, due to infringement of claims 2 and 34 of the '258 patent by the accused products, AATI violated the LEO. On May 17, 2010, the Commission determined not to review the ID and requested briefing from the parties regarding remedy, the public interest, and bonding.

Having reviewed the record of this investigation, including the recent submissions by the parties, for the reasons set forth in the Commission Opinion, the Commission has determined not to modify the existing limited exclusion order and not to issue a cease-and-desist order. The products at issue in the enforcement proceeding are covered by the existing limited exclusion order, and should be excluded thereunder.

The authority for the Commission's determination is contained in section 337 of the Tariff Act of 1930, as amended (19 U.S.C. 1337), and in part 210 of the Commission's Rules of Practice and Procedure (19 CFR part 210).

Issued: July 19, 2010.
By order of the Commission.
William R. Bishop,
Acting Secretary to the Commission.

[FR Doc. 2010-18031 Filed 7-22-10; 8:45 am]

BILLING CODE P